DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 8, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on April 30, 2020.
Donald P. Burger,
Chief, General Approvals and Permits Branch.

Special Permits Data
Application No. | Applicant | Regulation(s) affected | Nature of the special permits thereof
21028-N | Neutron Holdings, Inc | 173.185(f) | To authorize the manufacture, mark, sale and use of alternative packaging for the transportation in commerce of damaged, defective, or recalled lithium ion cells and batteries and lithium metal cells and batteries and these cells or batteries contained in or packed with equipment. (mode 1).
21029-N | U.S. Cryogenics, Inc | 172.203(a), 172.301(c), 180.211(c)(2)(i) | To authorize the transportation in commerce of Dewars that have been repaired but have not been pressure tested in accordance with the specifications under which they were originally manufactured. (modes 1, 2, 3, 4).
21030-N | Mistras Group, Inc | 180.205(g)(1) | To authorize the extension of the service life of fully wrapped fiber reinforced composite gas cylinders as listed in paragraph 7, which are subjected to the requalification and operational controls that are defined in this special permit and follow DOT TR20180502 which describes the use of modal acoustic emission (MAE) testing during periodic inspection and testing of hoop wrapped and fully wrapped composite transportable gas cylinders and tubes, with aluminum-alloy, steel or non-metallic liners or of liner less construction, intended for compressed and liquefied gases under pressure. (modes 1, 2, 3, 4, 5).
21032-N | Luxfer Inc | 173.302a(a), 173.304a(a), 180.209 | To authorize the manufacture, marking, sale and use of a non-DOT specification fully-wrapped carbon fiber composite cylinder with a seamless aluminum liner, to contain oxygen and other gases at 5000 psi. The cylinder will be designed, manufactured and tested in accordance with ISO 11119-2 with two extra tests defined by PHMSA. (modes 1, 2, 3, 4, 5).
21035-N | Volkswagen Ag | 172.101(j) | To authorize the transportation in commerce of lithium ion batteries exceeding 35 kg by cargo only aircraft. (mode 4).
21036-N | Triad National Security, LLC | 172.203(a), 172.301(c), 173.22(a)(4)(i), 173.22(a)(4)(ii), 173.24(f)(2) | To authorize the transportation in commerce of hazardous materials packaged in packaging that has not been closed in accordance with the manufacturer's closure instructions. (mode 1).
21038-N | Volvo Cars of North America, LLC | 172.101(j) | To authorize the transportation in commerce of lithium ion batteries exceeding 35 kg net weight by cargo-only aircraft. (mode 4).
21041-N | KLA Corporation | 173.212, 173.213 | To authorize the transportation in commerce of certain flammable solids in non-specification plywood boxes. (modes 1, 4, 5).
21043-N | Community Surgical Supply of Toms River Inc | 180.207 | To authorize the transportation in commerce of certain hazardous materials in DOT specification 3AL cylinders that are requalified in 10-year retest interval rather than 5-year intervals using ultrasonic examination. (modes 1, 2, 3).
21045-N | Tradewater LLC | 172.200, 172.700(a), 172.400 | To authorize the transport of non-refillable DOT 39 gas cylinders containing refrigerant gases with alternate documentation and hazard communication requirements. (modes 1, 2).
21047-N | Tesla, Inc | 173.185(b)(1) | To authorize the transportation in commerce of lithium cells and batteries in alternative packaging. (modes 1, 2, 3, 4).
21048-N | United Paradyne Corporation | 180.209(a), 180.209(b)(1) | To authorize the transportation in commerce of certain Division 2.1 and 2.2 materials in DOT 3A, 3AA, 3AX, 3AAX and 3T cylinders having water capacity over 125 lbs to be periodically requalified every ten years instead of every five years. (modes 1, 2, 3).

[FR Doc. 2020-09729 Filed 5-6-20; 8:45 am]

BILLING CODE 4909-60-P